DEPARTMENT OF DEFENSE

Office of the Secretary

Class Tuition Waivers

AGENCY: Department of Defense Education Activity (DoDEA), Defense (DoD).

ACTION: Notice.

SUMMARY: The Secretary of Defense is authorized by Section 1404(c) of Public Law 95-561, “Defense Dependents' Education Act of 1978,” as amended, 20 U.S.C. 923(c) to identify classes of dependents who may enroll in DoD Dependent Schools (DoDDS) if there is space available and to waive tuition for any such classes. Through DoD Directive 1342.13, “Eligibility Requirements for Education of Minor Dependents in Overseas Areas,” dated July 8, 1982, as amended, paragraph 5.3.4, the Secretary has delegated to the Office of the Assistant Secretary of Defense for Force Management Policy (ASD) (FMP) the authority to identify those classes of dependents for whom tuition may be waived.

This notice announces that the ASD (FMP) designated certain classes of dependents for whom tuition may be waived on a space-available, tuition-free basis on the dates listed below:

August 16, 2002—Dependents, whose second language is English, of personnel assigned to the Argentinean Liaison Office, International Coordination Center (ICC) Headquarters, Supreme Headquarters Allied Powers, Europe (SHAPE) in Belgium. This waiver applies to dependents attending SHAPE Elementary School and SHAPE High School. This class tuition waiver is in effect only for School Year 2002-2003.

Dated: November 4, 2002.
Patricia L. Toppings,
Alternate OSD Federal Register Liaison Officer, Department of Defense.

[FR Doc. 02-28721 Filed 11-12-02; 8:45 am]

BILLING CODE 5001-08-M